LEGAL SERVICES CORPORATION

Sunshine Act Meeting of the Board of Directors

Time And Date: The Board of Directors (“Board”) of the Legal Services Corporation will meet telephonically on July 21, 2010. The meeting will begin at 11 a.m., Eastern Daylight Time, and continue until conclusion of the Board's agenda.

Location: Legal Services Corporation, 3333 K Street, NW., Washington, DC 20007, 3rd Floor Conference Center.

Public Observation: For all meetings and portions thereof open to public observation, members of the public that wish to listen to the proceedings may do so by following the telephone call-in directions given below. You are asked to keep your telephone muted to eliminate background noises. From time to time the Chairman may solicit comments from the public.

Call-in Directions for Open Session(s)

• Call toll-free number: 1-(866) 451-4981;

• When prompted, enter the following numeric pass code: 5907707348;

• When connected to the call, please “MUTE” your telephone immediately.

Status of Meeting: Closed. A portion of the meeting of the Board of Directors may be closed to the public pursuant to a vote of the Board so the Board can consider and perhaps act on the recommendation of the Search Committee for LSC President (“Search Committee”) regarding selection of an executive search recruiter. This closure will be authorized by the relevant provisions of the Government in the Sunshine Act [5 U.S.C. 552b(c)(4) and (6)] and LSC's implementing regulation 45 CFR 1622.5(c)¹ and (e).²

¹ 45 CFR 1622.5(c)—Protects information the disclosure of which would disclose trade secrets and commercial or financial information which is confidential.

² 45 CFR 1622.5(e)—Protects information the disclosure of which would constitute a clearly unwarranted invasion of personal privacy.

A verbatim written transcript will be made of the closed session of the Board meeting. However, the transcript of any portions of the closed session falling within the relevant provisions of the Government in the Sunshine Act [5 U.S.C. 552b(c)(4) and (6)] and LSC's implementing regulation 45 CFR 1622.5(c) and (e), will not be available for public inspection. A copy of the General Counsel's Certification that in his opinion the closing is authorized by law will be available upon request.

Matters to be Considered: Open Session

1. Approval of the agenda.

2. Consider and act on Resolution 2010-009 which authorizes the Board Chairman to establish a Fiscal Oversight Taskforce.

3. Public comment.

Closed Session

4. Consider and act on recommendation of the Search Committee for LSC President regarding selection of an executive search recruiter.

Open Session

5. Consider and act on other business.

6. Consider and act on motion to adjourn meeting.

Contact Person for Information: Kathleen Connors, Executive Assistant to the President, at (202) 295-1500. Questions may be sent by electronic mail to FR_NOTICE_QUESTIONS@lsc.gov.

Special Needs: Upon request, meeting notices will be made available in alternate formats to accommodate visual and hearing impairments. Individuals who have a disability and need an accommodation to attend the meeting may notify Kathleen Connors at (202) 295-1500 or FR_NOTICE_QUESTIONS@lsc.gov.

Dated: July 14, 2010.
Patricia D. Batie,
Corporate Secretary.

[FR Doc. 2010-17543 Filed 7-14-10; 4:15 pm]

BILLING CODE 7050-01-P